UTAH RECLAMATION MITIGATION AND CONSERVATION COMMISSION

Notice of Availability of the Draft Environmental Assessment for the Rehabilitation or Replacement of Diversion Dams on the Duchesne and Strawberry Rivers in UT

AGENCY: Utah Reclamation Mitigation and Conservation Commission.

ACTION: Notice of Availability of the Draft Environmental Assessment for the Rehabilitation or Replacement of Diversion Dams on the Duchesne and Strawberry Rivers in Utah.

SUMMARY: The Central Utah Project Completion Act (Pub. L. 102-575) authorized federal funds to rehabilitate diversion dams on the Duchesne and Strawberry Rivers in Utah. The project is needed to reduce adverse affects on fish and wildlife resources.

The Draft Environmental Assessment (DEA) was prepared as a Programmatic document. It discusses potential environmental impacts associated with reconstructing and operating an unspecified diversion dam on the Duchesne or Strawberry River. The new diversion dam could serve single or multiple diversion rights. Potential environmental impacts addressed in the document are those impacts that would be expected regardless of which diversion dam is rehabilitated. Potential impacts to wetlands, threatened and endangered species, and cultural resources are generally site specific and/or require special permits. Potential impacts to these environmental disciplines would be addressed in a Supplemental Environmental Assessment, if needed.

The DEA provides the public and decision makers information to understand and evaluate potential environmental consequences. The DEA was developed with the public in accordance with the Commissions National Environmental Policy Act (NEPA) Rule (43 CFR part 10010.20).

The DEA is related to other potential future actions, specifically the detailed design and implementation of diversion dam replacements or rehabilitation. The programmatic perspective has been considered in the document. Future construction projects may require separate or supplemental NEPA compliance.

DATES: Written comments on the Draft Environmental Assessment are invited until January 31, 2003.

ADDRESSES: Address all comments and/or requests for further information to Mark Holden, Projects Manager, Utah Reclamation Mitigation and Conservation Commission, 102 West 500 South, Suite 315, Salt Lake City, UT, 84101.

FOR FURTHER INFORMATION CONTACT: Mark Holden, Projects Manager, 801-524-3146. mholden@uc.usbr.gov.

Dated: December 23, 2002.
Michael C. Weland,
Executive Director.

[FR Doc. 03-75 Filed 1-2-03; 8:45 am]

BILLING CODE 4310-05-P